DEPARTMENT OF TRANSPORTATION

Federal Aviation Administration

14 CFR Part 39

[Docket No. 2003-NM-233-AD; Amendment 39-14585; AD 2006-10-01]

RIN 2120-AA64

Airworthiness Directives; Bombardier Model CL-600-2B19 (Regional Jet Series 100 & 440) Airplanes

AGENCY: Federal Aviation Administration, DOT.

ACTION: Final rule; correction.

SUMMARY: This document corrects a typographical error that appeared in AD 2006-10-01 that was published in the Federal Register on May 8, 2006 (71 FR 26682). The typographical error resulted in an incorrect revision date for a referenced service bulletin. This AD is applicable to certain Bombardier Model CL-600-2B19 (Regional Jet Series 100 & 440) airplanes. This AD requires the installation of protective tape on the fire and overheat control unit in the flight compartment, and repetitive inspections of the condition of the protective tape and related corrective action. This AD also mandates eventual replacement of the existing fire and overheat control unit with a modified unit, which ends the repetitive inspections.

DATES: Effective June 12, 2006.

FOR FURTHER INFORMATION CONTACT: Rocco Viselli (or James Delisio), Aerospace Engineer, Airframe and Propulsion Branch, ANE-171, FAA, New York Aircraft Certification Office, 1600 Stewart Avenue, suite 410, Westbury, New York; telephone (516) 228-7331 (or (516) 228-7321); fax (516) 794-5531.

SUPPLEMENTARY INFORMATION: Airworthiness Directive (AD) 2006-10-01, amendment 39-14585, applicable to certain Bombardier Model CL-600-2B19 (Regional Jet Series 100 & 440) airplanes, was published in the Federal Register on May 8, 2006 (71 FR 26682). That AD requires the installation of protective tape on the fire and overheat control unit in the flight compartment, and repetitive inspections of the condition of the protective tape and related corrective action. That AD also mandates eventual replacement of the existing fire and overheat control unit with a modified unit, which ends the repetitive inspections.

As published, the AD reads throughout, “Bombardier Alert Service Bulletin A601R-26-017, Revision “C,” dated November 6, 2003.” The correct date of the service bulletin revision should be November 3, 2003.

Since no other part of the regulatory information has been changed, the final rule is not being republished in the Federal Register.

The effective date of this AD remains June 12, 2006.

§ 39.13 [Corrected]

On page 26685, in the left-hand column, paragraph (g) of AD 2006-10-01 is corrected to read as follows:

* * * * *

(g) Actions accomplished before the effective date of this AD in accordance with Bombardier Alert Service Bulletin A601R-26-017, Revision ‘C,’ dated November 3, 2003; and Bombardier Service Bulletin 601R-26-018, dated December 2, 2002; or Revision ‘A,’ dated February 27, 2003; as applicable; are considered acceptable for compliance with the corresponding requirements of this AD.

* * * * *

Issued in Renton, Washington, on May 31, 2006.
Kalene C. Yanamura,
Acting Manager, Transport Airplane Directorate, Aircraft Certification Service.

[FR Doc. 06-5246 Filed 6-9-06; 8:45 am]

BILLING CODE 4910-13-P